DEPARTMENT OF COMMERCE

Foreign-Trade Zones Board

[Order No. 1382]

Expansion of Foreign-Trade Zone 25; Broward County, FL

Pursuant to its authority under the Foreign-Trade Zones Act of June 18, 1934, as amended (19 U.S.C. 81a-81u), the Foreign-Trade Zones Board (the Board) adopts the following Order:

Whereas, the Port Everglades Department of Broward County, Florida, grantee of Foreign-Trade Zone 25, submitted an application to the Board for authority to expand and reorganize FTZ 25 in Broward County, within the Port Everglades Customs and Border Protection port of entry (FTZ Docket 33-2004, filed 8/9/2004);

Whereas, notice inviting public comment has been given in the Federal Register (69 FR 51060, 8/17/2004);

Whereas, the Board adopts the findings and recommendations of the examiner's report, and finds that the requirements of the FTZ Act and Board's regulations are satisfied, and that approval of the application is in the public interest;

Now, therefore, the Board hereby orders:

The application to expand FTZ 25 is approved, subject to the FTZ Act and the Board's regulations, including § 400.28.

Signed at Washington, DC, this 18th day of March 2005.
Joseph A. Spetrini,
Acting Assistant Secretary of Commerce for Import Administration, Alternate Chairman, Foreign-Trade Zones Board.

Attest:

Dennis Puccinelli,

Executive Secretary.

[FR Doc. 05-6168 Filed 3-28-05; 8:45 am]

BILLING CODE 3510-DS-P